FEDERAL EMERGENCY MANAGEMENT AGENCY

Open Meeting, Advisory Committee (Expert Panel on Cost Estimating) for the Public Assistance Program

AGENCY: Federal Emergency Management Agency (FEMA).

ACTION: Notice of open meeting.

SUMMARY: In accordance with section 10(a)(2) of the Federal Advisory Committee Act (Public Law 92-463, 5 U.S.C. App.), announcement is made of the following committee meeting:

Name: Advisory Committee (Expert Panel on Cost Estimating) for the Public Assistance Program.

Date of Meeting: September 26-27, 2001.

Place: Loews L'Enfant Plaza Hotel, 480 L'Enfant Plaza, S.W., Monet IV Conference Room, Washington, DC 20042.

Time: September 26: 8 a.m.-5 p.m.; September 27: 8 a.m.-5 p.m.

Proposed Agenda: The Panel will compare and contrast the Cost Estimating Format for Large Projects developed by FEMA with estimating methods used by the American Society of Professional Estimators (ASPE). Discussion will also be held regarding the Panel's official endorsement of a cost estimating methodology and in determining the level of technical expertise and training guidance required for uniformly applying it. The Panel will also consider a proposed update to Engineering and Design Services curves (A and B).

The meeting will be open to the public, with seats available on a first-come, first-served basis. All members of the public interested in attending should contact James D. Duffer, at 202-646-3532.

Minutes of the meeting will be prepared and available for public viewing at the Federal Emergency Management Agency (FEMA), Recovery Division, Readiness, Response and Recovery Directorate, 500 C Street, SW, Washington DC 20472 and posted on FEMA's Web Page located at http://www.fema.gov/r-n-r/pa/process. Copies of the meeting minutes will be available upon request 90 days after the meeting.

Robert J. Adamcik,
Deputy Assistant Director, Readiness, Response & Recovery Directorate.

[FR Doc. 01-21660 Filed 8-27-01; 8:45 am]

BILLING CODE 6718-01-P